DEPARTMENT OF COMMERCE

National Oceanic and Atmospheric Administration

[I.D. 010603D]

Endangered and Threatened Species; Take of Anadromous Fish

AGENCY: National Marine Fisheries Service (NMFS), National Oceanic and Atmospheric Administration (NOAA), Commerce.

ACTION: Issuance of permit 1413 to Charlotte Ambrose.

SUMMARY: Notice is given that NMFS has issued permit 1413 to Charlotte Ambrose, of the NMFS Protected Resources Division in Santa Rosa, California, that authorizes takes of Endangered Species Act-listed anadromous fish species for research purposes, subject to certain conditions set forth therein.

ADDRESSES: The applications and related documents are available for review in the following offices, by appointment:

For permit 1413: Protected Resources Division, NMFS, 777 Sonoma Avenue, Room 325, Santa Rosa, CA 95404-6528.

FOR FURTHER INFORMATION CONTACT: For permit 1413: Daniel Logan, Protected Resources Division, NMFS, Santa Rosa, CA, (707) 575-6053, or e-mail: dan.logan@noaa.gov.

SUPPLEMENTARY INFORMATION:

Species Covered in This Notice:

The following species and evolutionarily significant units (ESU's) are covered in this notice: Chinook salmon (Oncorhynchus tshawytscha), coho salmon (O. kisutch), and steelhead (O. mykiss).

Issuance of this permit, as required by the ESA, was based on a finding that such modification was: (1) applied for in good faith; (2) would not operate to the disadvantage of the listed species which are the subject of the permit; and (3) are consistent with the purposes and policies set forth in section 2 of the ESA. This permit was issued in accordance with and is subject to part 222 of title 50 CFR, the NMFS regulations governing listed species permits.

The applicant's proposed activities are in support of a potential ESA violation enforcement action. The applicant proposes field investigations to document the potential harm or injury to ESA-listed salmonids within the California Coastal (CC) Chinook salmon Evolutionarily Significant Unit (ESU), the Southern Oregon/Northern California Coasts (SONCC) coho salmon ESU, and the Northern California (NC) steelhead ESU.

The NMFS SWR believes that because the health and life of the animals are in danger, the issuance of permit 1413 is an urgent action and sufficient to qualify as an emergency situation consistent with CFR 222.303(g).

Permit Issued

Permit 1413 was issued on December 11, 2002.

Charlotte Ambrose is authorized to capture and handle ESA- listed salmonids within the CC Chinook salmon ESU, the SONCC coho salmon ESU, and the NC steelhead ESU.

The expiration date of Permit 1413 is June 30, 2003.

Dated: January 8, 2003.
Phil Williams,
Chief, Endangered Species Division, Office of Protected Resources, National Marine Fisheries Service.

[FR Doc. 03-2412 Filed 1-31-03; 8:45 am]

BILLING CODE 3510-22-S